DEPARTMENT OF TRANSPORTATION

Federal Highway Administration

[Docket No. FHWA-2013-0024 ]

Agency Information Collection Activities: Request for Comments for a New Information Collection.

AGENCY: Federal Highway Administration (FHWA), Department of Transportation.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by July 19, 2013.

ADDRESSES: You may submit comments identified by DOT Docket ID Number 2013-0024 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590.

Hand Delivery or Courier: U.S. Department of Transportation, West Building Ground Floor, Room W12-140, 1200 New Jersey Avenue SE., Washington, DC 20590, between 9 a.m. and 5 p.m., Monday through Friday, except Federal holidays.

FOR FURTHER INFORMATION CONTACT: Crystal Jones, 202-366-2976, Office of Freight Management & Operations (HOFM-1), Office of Operations, Federal Highway Administration, 1200 New Jersey Ave., Room E84-313, Washington, DC 20509.. Office hours are from 8:30 a.m. to 5:00 p.m., Monday through Friday, except Federal holidays.

SUPPLEMENTARY INFORMATION: Title: USDOT Survey on Projects of National and Regional Significance (PNRS)

Background: US Department of Transportation (USDOT) is directed by Section 1120(1) of Moving Ahead for Progress in the 21st Century (MAP21), to prepare a report to Congress not later than 2 years after the date of enactment of the MAP-21. The USDOT is required to submit the report to the Committee on Transportation and Infrastructure of the House of Representatives and the Committee on Environment and Public Works of the Senate regarding PNRS. The purpose of the report is to identify projects of national and regional significance that: (a) Will significantly improve the performance of the Federal-aid highway system, nationally, (b) are able to generate national economic benefits that reasonably exceed the costs of the projects, including increased access to jobs, labor, and other critical economic inputs; (c) reduce long-term congestion, including impacts in the State, region, and the United States, and increase speed, reliability, and accessibility of the movement of people or freight; (d) improve transportation safety, including reducing transportation accidents, and serious injuries and fatalities; and (e) can be supported by an acceptable degree of non-Federal financial commitments.

The report is required to contain a comprehensive list of each project of national and regional significance that: (a) has been complied through a survey of State departments of transportation; and has been classified by the Secretary as a project of regional or national significance.

Respondents: The target groups of respondents are State Departments of Transportation, transit agencies, tribal governments and multi-state or multi-jurisdictional groups. The target groups identified in the legislation are “State departments of transportation”; the Federal Highway Administration (FHWA) has interpreted the legislation to mean compile a list of projects from all eligible applicants not just the State Departments of Transportation, thus in addition to State Departments of Transportation, FHWA will survey other eligible applicants which include tribal governments or consortium of tribal Governments, transit agencies and multi-State or multi-jurisdictional groups.

Estimate

State Departments of Transportation = 52

Transit Agencies = 50

Tribal Governments = 10

Multi-state or multi-jurisdictional groups = 10

Frequency: Every 2 years.

Estimated Average Burden per Response:

40 hours/State Department of Transportation = 2080 hours

20 hours/Transit Agency = 1000 hours

10 hours/Tribal Government = 100

20 hours/Multi-state or multi-jurisdictional groups = 200

Total burden hours = 3380.

Estimated Total Annual Burden: 3380 hours.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: May 14, 2013.
Michael Howell,
Information Collection Coordinator.

[FR Doc. 2013-11928 Filed 5-17-13; 8:45 am]

BILLING CODE 4910-22-P